NATIONAL SCIENCE FOUNDATION

Agency Information Collection Activities: Comment Request

AGENCY: National Science Foundation.

ACTION: Submission for OMB Review; Comment Request.

SUMMARY: The National Science Foundation (NSF) has submitted the following information collection requirement to OMB for review and clearance under the Paperwork Reduction Act of 1995, Public Law 104-13. This is the second notice for public comment; the first was published in the Federal Register at 71 FR 4382, and no comments were received. NSF is forwarding the proposed renewal submission to the Office of Management and Budget (OMB) for clearance simultaneously with the publication of this second notice. Comments regarding (a) whether the collection of information is necessary for the proper performance of the functions of the agency, including whether the information will have practical utility; (b) the accuracy of the agency's estimate of burden including the validity of the methodology and assumptions used; (c) ways to enhance the quality, utility and clarity of the information to be collected; or (d) ways to minimize the burden of the collected; or (d) ways to minimize the burden of the collection of information on those who are to respond, including through the use of appropriate automated, electronic, mechanical, or other technological collect techniques or other forms of information technology should be addressed to: Office of Information and Regulatory Affairs of OMB, Attention: Desk Officer for National Science Foundation, 725-17th Street, NW., Room 10235, Washington, DC 20503, and to Suzanne Plimpton, Reports Clearance Officer, National Science Foundation, 4201 Wilson Boulevard, Suite 295, Arlington, Virginia 22230 or send e-mail to splimpto@nsf.gov. Comments regarding these information collections are best assured of having their full effect if received within 30 days of this notification. Copies of the submission(s) may be obtained by calling 703-292-7556.

FOR FURTHER INFORMATION CONTACT: Suzanne Plimpton at (703) 292-7556 or send e-mail to splimpto@nsf.gov. Individuals who use a telecommunications device for the deaf (TDD) may call the Federal Information Relay Service (FIRS) at 1-800-877-8339 between 8 a.m. and 8 p.m., Eastern time, Monday through Friday.

NSF may not conduct or sponsor a collection of information unless the collection of information displays a currently valid OMB control number and the agency informs potential persons who are to respond to the collection of information that such persons are not required to respond to the collection of information unless it displays a currently valid OMB control number.

SUPPLEMENTARY INFORMATION: Title of Collection: Evaluation of the Historically Black Colleges and Universities Undergraduate Program.

OMB Control No.: 3145-New.

Abstract: The National Science Foundation (NSF) funded a program, called Historically Black Colleges and Universities Undergraduate Program (HBCU-UP), designed to help institutions strengthen the quality of their undergraduate STEM programs. The Urban Institute is conducting an evaluation of the HBCU-UP program. Using a mixed-methods approach, UI researchers will conduct an evaluation over three years to study the effectiveness of the program. The evaluation will include both process and summative components. The process component will document how different models within the Program are being implemented, thus helping evaluators to link strategies to outcomes, identify crucial components of different models, and contribute to the construction of general theories to guide future initiatives to increase the diversity of the STEM workforce. The summative component of the evaluation will focus on the extent to which the Program has produced outcomes that meet stated goals for students, faculty and institutions. The process evaluation will rely mainly on qualitative data collected during case study site visits and interviews; the summative evaluation will rely primarily on data collected through a survey of graduates.

Respondents: Graduates of undergraduate programs to STEM at Historically Black Colleges and Universities awarded an HBCU-UP grant from NSF.

Estimated Number of Annual Respondents: 5,000 (total).

Burden on the Public: 1,250 hours.

Dated: July 6, 2006.
Suzanne H. Plimpton,
Reports Clearance Officer, National Science Foundation.

[FR Doc. 06-6129 Filed 7-10-06; 8:45 am]

BILLING CODE 7555-01-M